DEPARTMENT OF ENERGY

Federal Energy Regulatory Commission

[Docket No. CP01-104-000]

Williams Gas Processing-Gulf Coast Company, L.P.; Notice of Petition for Declaratory Order

March 19, 2001.

Take notice that on March 12, 2001, Williams Gas Processing-Gulf Coast Company, L.P. (WGP), P.O. Box 1396, Houston, Texas 77251, filed a petition for declaratory order in Docket No. CP01-104-000, requesting that the Commission declare that certain pipeline, compression, dehydration and separation facilities located in Offshore Texas and Louisiana and in Cameron Parish, Louisiana to be acquired from Transcontinental Gas Pipe Line Corporation (Transco) would have the primary function of gathering of natural gas and would thereby be exempt from the Commission's jurisdiction pursuant to section 1(b) of the Natural Gas Act, all as more fully set forth in the petition which is on file with the Commission and open to public inspection. This filing may be viewed on the web at http://www.ferc.us/online/rims.htm (call 202-208-2222).

WGP states that the pipeline facilities at issue consist of the North High Island/Cameron Gathering System, consisting of line segments totaling 217.128 miles of 4-to-30 inch segments of pipeline, along with compression, separation and dehydration facilities. It is stated that Transco and WGP have entered into a December 29, 1997, amendment to an existing transfer and assignment agreement, providing for the facility transfer. It is indicated that Transco has filed a companion application to abandon these facilities by transfer to WGP in Docket No. CP01-103-000.

WGP submits that the primary function of the facilities is gathering, consistent with the criteria set forth in Farmland Industries, Inc. (23 FERC ­¶ 61,063 (1983), as modified in subsequent orders. WGP also urges the Commission to approve the firm-to-gathering rate design proposed by Transco in Docket No. RP92-137-050. WGP submits that WGP's requested gathering determination and Transco's requested firm-to-gathering rate design go hand in hand, i.e., WGP's proposal determining the demarcation line between transmission and gathering, and Transco's proposal implementing firm transmission service to the point of non-jurisdictional gathering.

Any questions concerning this application may be directed to Mari M. Ramsey at (918) 573-2611.

Any person desiring to be heard or to make protest with reference to said petition should on or before April 9, 2001, file with the Federal Energy Regulatory Commission, 888 First Street, N.E., Washington, D.C. 20426, a motion to intervene or a protest in accordance with the requirements of the Commission's Rules of Practice and Procedure (18 CFR 385.211 or 385.214) and the regulations under the Natural Gas Act (18 CFR 157.10). All protests filed with the Commission will be considered by it in determining the appropriate action to be taken but will not serve to make the protestants parties to the proceeding. The Commission's rules require that protestors provide copies of their protests to the party or parties directly involved. Any person wishing to become a party to a proceeding or to participate as a party in any hearing therein must file a motion to intervene in accordance with the Commission's rules.

Take further notice that, pursuant to the authority contained in and subject to jurisdiction conferred upon the Commission by sections 7 and 15 of the NGA and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Also, comments, protests, or interventions may be filed electronically via the internet in lieu of paper. See, 18 CFR 385.2001(a)(1)(iii) and the instructions on the Commission's web site at http://www.ferc.fed.us/efi/doorbell.htm.

Under the procedure herein provided for, unless otherwise advised, it will be unnecessary for WGP to appear or be represented at the hearing.

David P. Boergers,
Secretary.

[FR Doc. 01-7276 Filed 3-22-01; 8:45 am]

BILLING CODE 6717-01-M